DEPARTMENT OF HEALTH AND HUMAN SERVICES

Office of Inspector General

Program Exclusions: February 2003

AGENCY: Office of Inspector General, HHS.

ACTION: Notice of program exclusions.

During the month of February 2003, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
ALMAZAN, ABNER | 03/20/2003
LA CANADA, CA
ARCHER, MICHELE | 03/20/2003
PHILADELPHIA, PA
BOGUSLAVSKY, ELLEN | 03/20/2003
E ELMHURST, NY
BUTLER, LAURA A | 03/20/2003
CASCO, ME
CALPO, EPIFANIA DIRECTO JACOB | 03/20/2003
UNION CITY, CA
CASILLAS, ALFREDO | 03/20/2003
MIAMI, FL
DANIELS, HERBERT A | 03/20/2003
YANKTON, SD
DBB, INC | 03/20/2003
TAMPA, FL
DICHIARA, JOSEPH A | 03/20/2003
JAMESTOWN, NY
DIRECTO, ELIZABETH BASA | 03/20/2003
NORCO, CA
HUTCHINSON, MICHAEL | 03/20/2003
LOMPOC, CA
JONES, CHARLES ALDEN | 03/20/2003
SEATTLE, WA
JONES, BENJAMIN MCKENNY | 03/20/2003
SEATTLE, WA
KAMNA, BARBARA LOUISE | 03/20/2003
WILSONVILLE, OR
MKHITARIAN, OVAKIM | 03/20/2003
LOS ANGELES, CA
PEREZ, PEDRO AGUSTIN | 10/02/2001
MIAMI, FL
REGIL, ODALYS | 03/20/2003
MIAMI, FL
SEMIDEY-ROMAN, ROCIO | 03/20/2003
YAUCO, PR
TRANMER, DEBBIE | 03/20/2003
POCATELLO, ID
WALL, MITCHELL | 03/20/2003
WARREN, ME
WARD, DANIEL F | 03/20/2003
WESTWOOD, KS
WILLIAMS, ROGER | 03/20/2003
FISHKILL, NY
WORTHINGTON, WINSTON HALL | 03/20/2003
KNOXVILLE, TN
ZAKRZESKI, PAUL | 03/20/2003
SHREWSBURY, PA
FELONY CONVICTION FOR HEALTH CARE FRAUD
BOWIE, CHARLES DOUGLAS JR | 03/20/2003
BALTIMORE, MD
MALISCH, ANNETTE RENEE | 03/20/2003
SIOUX CITY, IA
MCQUAITE, JEFFREY T | 03/20/2003
HOLLAND, PA
FELONY CONTROL SUBSTANCE CONVICTIONS
ACOSTA, ARMANDO M | 03/20/2003
LEXINGTON, KY
BATEMAN, AMY MICHELLE | 03/20/2003
LOOGOOTEE, IN
CARRILLO, BRENDA RENEE | 03/20/2003
CAMARILLO, CA
CARSON, KATHERINE R | 03/20/2003
MENTOR, OH
CLOUTIER, ROBERT M | 03/20/2003
SALEM, MA
EDMONDS, NORMA LYNN | 03/20/2003
APPLE VALLEY, CA
FELTMAN, HILLARY ANN | 03/20/2003
LUFKIN, TX
MCGLAMERY, DAVID A | 03/20/2003
GRANTSVILLE, UT
MORGIA, KIMBERLY ANNE | 03/20/2003
YORK, NE
PULLIAM, TIMOTHY W | 03/20/2003
TALLADEGA, AL
RILEY, BRIDGETT | 03/20/2003
LINDENWOLD, NJ
TURNER, DIANE C | 03/20/2003
CASPER, WY
PATIENT ABUSE/NEGLECT CONVICTIONS
DANIELS, CAROLE | 03/20/2003
BRUCE, MS
DEBOUVIER, JUDE JOSEPH | 03/20/2003
BOULDER, CO
GRAY, JACCI LYNN | 03/20/2003
MCLOUD, OK
RITCH, SHERRY L | 03/20/2003
BALTIMORE, MD
SANDERS, KENDALL | 03/20/2003
JESSUP, MD
SPOERRY, FLOYD DEAN | 03/20/2003
DEXTER, IA
SPRAGUE, CHAD E | 03/20/2003
W RUTLAND, VT
WATT, JAMES S | 03/20/2003
RUTHER GLEN, VA
CONVICTION—OBSTRUCTION OF AN INVESTIGATION
FRYMIRE, MARY KATHRYN | 03/20/2003
MARQUAND, MO
LICENSE REVOCATION/SUSPENSION/SURRENDERED
ALVORD, MARSHA DIANE | 03/20/2003
ROY, UT
ARAGON, MICHAEL ANTHONY | 03/20/2003
WESTMINSTER, CA
BAIN-CHARIF, BEVERLY | 03/20/2003
WINDSOR ONTARIO,
BANKS, KATHY LEE | 03/20/2003
EDGEWOOD, NM
BECKER, DONALD EUGENE | 03/20/2003
BLACKWELL, OK
BERG, JULIE ANNE | 03/20/2003
SALT LAKE CITY, UT
BEYERLE, CLINTON D | 03/20/2003
SAN FERNANDO, CA
BOWMAN, JOYCE L | 03/20/2003
CEDAR FALLS, IA
BRAICK, SALIM MANSOUR | 03/20/2003
UTICA, NY
BROWN, CINDY MARIE | 03/20/2003
YUMA, AZ
BUERLEN, RACHEL H | 03/20/2003
RUTLAND, MA
CHILDS, KRIS A | 03/20/2003
PHOENIX, AZ
COLE, KIM L | 03/20/2003
WILLIAMSBURG, VA
CORLEY, EDNA M | 03/20/2003
CHICAGO, IL
COSTILOE, WANDA JUNE | 03/20/2003
OAKDALE, PA
DAVIDSON HINES, KELLY DAWN | 03/20/2003
IDABEL, OK
DOTTLE, MAUREEN DUNCAN | 03/20/2003
GIBSONIA, PA
DUMOND, CRAIG B | 03/20/2003
ALBANY, NY
ELLIS-BALES, THERESA | 03/20/2003
BALTIMORE, MD
GERMAN, TIMOTHY ROWLEY | 03/20/2003
PHOENIX, AZ
GOLIN, MARK M | 03/20/2003
RIDGEWOOD, NJ
HARDY, MICHELLE D | 03/20/2003
BALTIMORE, MD
HOWESA, PATSY A | 03/20/2003
SCOTTSDALE, AZ
HUNT, MALETA D | 03/20/2003
TUCSON, AZ
IVEY, VARNER JEAN | 03/20/2003
FRANKLIN, VA
JAKUBIAK, PAUL J | 03/20/2003
WILLIAMSTON, MI
JAMES, CORNELIUS W | 03/20/2003
GLENDALE, AZ
JARROLD, DENISE M | 03/20/2003
PHOENIX, AZ
JONES, NAOMI | 03/20/2003
DUNCANSVILLE, PA
JONES, DAVID W | 03/20/2003
NEWARK, NJ
KANTOR, HOWARD L | 03/20/2003
LAKE OSWEGO, OR
KILZER, MARYANN A | 03/20/2003
OMAHA, NE
KRELL, TRACY A | 03/20/2003
BLUE ISLAND, IL
LATHAM, BRIAN | 03/20/2003
TEXARKANA, TX
LEE, NAM HOON | 03/20/2003
LOS ANGELES, CA
LINNELL, CHRISTINA JOYCE | 03/20/2003
SAN LORENZO, CA
MACGINNIS, STEPHEN D | 03/20/2003
OXFORD, MA
MALLORY, CHARLES DOUGLAS | 03/20/2003
VIRGINIA BEACH, VA
MCCAFFERTY-MATTIA, MAUREEN C | 03/20/2003
NORTH HAVEN, CT
MCCARTHY, THOMAS A | 03/20/2003
MACUNGIE, PA
MCGEE, JULIE L | 03/20/2003
E GREENWICH, RI
MCGEE-RUSSELL, PATRICK M | 03/20/2003
SANTA FE, NM
MITCHELL, SHANN RANAE | 03/20/2003
ANCHORAGE, AK
MONDOCK, PENNY ANN | 03/20/2003
BOSWELL, PA
MORENO, BRENDA A | 03/20/2003
CHANDLER, AZ
O'MEARA, RICHARD DON | 03/20/2003
DRAPER, UT
PACKEY, DARREL ROWAN | 03/20/2003
PITTSBURGH, PA
PAINTER, BRENDA LYNN | 03/20/2003
GLENDALE, AZ
PEAK, DOROTHEA JOY | 03/20/2003
SALT LAKE CITY, UT
PEREZ, ANDREW M | 03/20/2003
PHOENIX, AZ
PERRYMAN, BRET A | 03/20/2003
LINCOLNVILLE, ME
PHILLIPS, DAVID CHAFFEE | 03/20/2003
ROSSFORD, OH
RECKARD, NANCY ANN | 03/20/2003
TEMPE, AZ
RICKARD, VERNON DAVID | 03/20/2003
SONORA, CA
ROSE, JAMES TIMOTHY | 03/20/2003
HOUSTON, TX
SCHLOSSER, MICHAEL S | 03/20/2003
OGDEN, UT
SCHMUTZ, GEORGE DAVID | 03/20/2003
WARSAW, MO
SMETTLER, KIM | 03/20/2003
HAYWARD, CA
STADIEM, JACQUELINE WILLIAMS | 03/20/2003
CARLSBAD, CA
THOMAS, SCOTT A | 03/20/2003
ANCHORAGE, AK
WEST, LINDA MACFADDEN | 03/20/2003
TUCSON, AZ
WOODWARD, JEROME P | 03/20/2003
ROCHESTER, NY
YORK, BETTY JEAN | 03/20/2003
CHANDLER, AZ
YU, BONITO CHUA | 03/20/2003
S SAN FRANCISCO, CA
FRAUD/KICKBACKS
MOORE, JOHN T | 08/05/2002
NORWALK, CT
OWNED/CONTROLLED BY CONVICTED ENTITIES
A-COMMUNITY HOME HEALTH, INC | 03/20/2003
MIAMI, FL
CLASSIC COMFORT, INC | 03/20/2003
RESEDA, CA
IDEAL COUNTRY PL & SCHOOL | 03/20/2003
MIAMI, FL
MEDICAL INFORMATIONAL SVC, INC | 03/20/2003
MIAMI, FL
SASB, INC | 03/20/2003
RESEDA, CA
T & T MEDICAL, INC | 03/20/2003
MIAMI, FL
DEFAULT ON HEAL LOAN
ENGLISH, THOMAS W | 01/23/2003
DAVENPORT, IA

Dated: February 28, 2003.
Katherine B. Petrowski,
Director, Exclusions Staff, Office of Inspector General.

[FR Doc. 03-6173 Filed 3-13-03; 8:45 am]

BILLING CODE 4150-04-P